DEPARTMENT OF THE INTERIOR

National Park Service

[NPS-WASO-NAGPRA-NPS0040399; PPWOCRADN0-PCU00RP14.R50000]

Notice of Inventory Completion: Duke University, Durham, NC

AGENCY: National Park Service, Interior.

ACTION: Notice.

SUMMARY: In accordance with the Native American Graves Protection and Repatriation Act (NAGPRA), Duke University has completed an inventory of human remains and has determined that there is no lineal descendant and no Indian Tribe or Native Hawaiian organization with cultural affiliation.

DATES: Upon request, repatriation of the human remains in this notice may occur on or after July 17, 2025.

ADDRESSES: Send written requests for repatriation of the human remains in this notice to Dr. Steven Churchill, Department of Evolutionary Anthropology, Box 90383, Duke University, Durham, NC 27708, email churchy@duke.edu.

SUPPLEMENTARY INFORMATION: This notice is published as part of the National Park Service's administrative responsibilities under NAGPRA. The determinations in this notice are the sole responsibility of Duke University, and additional information on the determinations in this notice, including the results of consultation, can be found in its inventory or related records. The National Park Service is not responsible for the determinations in this notice.

Abstract of Information Available

Human remains representing one individual have been identified. No associated funerary objects are present. During inventory and curation work with human skeletal material used in anatomical teaching, members of the faculty of Duke University's Department of Evolutionary Anthropology became aware of a skull, potentially representing a Native American, stored in a cabinet in the laboratory of one of our faculty. Investigation revealed that the skull has been in the department since at least 1973, and that the details of its acquisition fall beyond the institutional memory of our most senior faculty. No other information about provenience or provenance is available. Features of the face and cranial vault, as well as the surface characteristics of the bone, strongly suggest that the individual represents a prehistoric Native American. No known hazardous substances have been applied to the bone.

Consultation

Invitations to consult were sent to the Catawba Indian Nation; Cherokee Nation; Eastern Band of Cherokee Indians; Monacan Indian Nation; Nansemond Indian Nation; The Muscogee (Creek) Nation; and the Tuscarora Nation. The Catawba Indian Nation; Cherokee Nation; Eastern Band of Cherokee Indians; Monacan Indian Nation, and The Muscogee (Creek) Nation responded to the invitation to consult; with the exception of the Monacan Indian Nation (who deferred to the other Tribes), all of these Tribes participated in the consultation.

Cultural Affiliation

The following types of information about the cultural affiliation of the human remains and associated funerary objects in this notice are available: anthropological. The information, including the results of consultation, identified:

1. No earlier group connected to the human remains.

2. No Indian Tribe or Native Hawaiian organization connected to the human remains.

3. No relationship of shared group identity between the earlier group and the Indian Tribe or Native Hawaiian organization that can be reasonably traced through time.

Determinations

Duke University has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after July 17, 2025. If competing requests for repatriation are received, Duke University must determine the most appropriate requestor prior to repatriation. Requests for joint repatriation of the human remains are considered a single request and not competing requests. Duke University is responsible for sending a copy of this notice to any consulting lineal descendant, Indian Tribe, or Native Hawaiian organization.

Authority: Native American Graves Protection and Repatriation Act, 25 U.S.C. 3003, and the implementing regulations, 43 CFR 10.10.

Dated: June 11, 2025.
Melanie O'Brien,
Manager, National NAGPRA Program.

[FR Doc. 2025-11134 Filed 6-16-25; 8:45 am]

BILLING CODE 4312-52-P